DEPARTMENT OF ENERGY

Federal Energy Regulatory Commission

[Docket Nos. CP98-150-000 and CP98-151-000]

Millennium Pipeline Company, LP; Columbia Gas Transmission Corporation; Site Visit

February 28, 2000.

On Tuesday, March 7, 2000, the Federal Energy Regulatory Commission staff will conduct a limited site visit of alternative routes near mileposts 88.0 and 93.8 of the proposed Millennium Pipeline Project.

We will meet at 9 am at the Cattaraugus County Center, 303 Court Street, Little Valley, New York 14755.

For further information, call Paul AmKee, Office of External Affairs, at (202) 208-1088.

David P. Boergers,
Secretary.

[FR Doc. 00-5119 Filed 3-2-23; 8:45 am]

BILLING CODE 6717-01-M